DEPARTMENT OF THE INTERIOR

Bureau of Ocean Energy Management

[Docket No. BOEM-2012-0011]

Outer Continental Shelf (OCS) Renewable Energy Program Leasing for Marine Hydrokinetic Technology Testing Offshore Florida

AGENCY: Bureau of Ocean Energy Management, Interior.

ACTION: Notice of the Availability of an Environmental Assessment.

SUMMARY: Bureau of Ocean Energy Management (BOEM) has prepared an environmental assessment (EA) considering the reasonably foreseeable environmental impacts and socioeconomic effects of issuing a lease in Official Protraction Diagram NG 17-06, Blocks 7003, 7053, and 7054, offshore Florida. The proposed lease would authorize technology testing activities, including the installation, operation, relocation, and decommissioning of technology testing facilities. The purpose of this notice is to inform the public of the availability of the EA for review and to solicit public comments on the EA.

Pursuant to 36 CFR 800.4(d)(1), which is a section in the regulations implementing section 106 of the National Historic Preservation Act, 16 U.S.C. 470f, BOEM has made a finding of “no historic properties affected” for this proposed project. The finding and supporting documentation have been submitted to the Florida State Historic Preservation Officer and the Advisory Council on Historic Preservation and are included in the EA for public inspection.

BOEM will conduct a public information session at the following location and time to explain the proposed activities and provide additional opportunities for public input on the EA: Broward County Main Library, 100 S Andrews Ave., Fort Lauderdale, Florida 33301-7528, Wednesday, May 9, 2012, 2 p.m.

The EA and information on the public session can be found online at: http://www.boem.gov/Renewable-Energy-Program/State-Activities/Florida.aspx.

Authority: This Notice of the Availability (NOA) of an EA is published pursuant to 43 CFR 46.305.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On May 24, 2011, BOEM published a Notice of Intent (NOI) to prepare an EA, which requested public comments on alternatives to be considered in the EA as well as identification of important environmental issues associated with data collection and technology testing activities (76 FR 30184). BOEM considered these public comments in drafting the alternatives and assessing the reasonably foreseeable environmental impacts associated with each. Comments received in response to the NOI can be viewed at: http://www.regulations.gov by searching for Docket ID BOEM-2011-0012.

BOEM is seeking public input on the EA, including comments on the completeness and adequacy of the environmental analysis, and on the measures and operating conditions in the EA designed to reduce or eliminate potential environmental impacts. BOEM will consider public comments on the EA in determining whether to issue a Finding of No Significant Impact (FONSI), or to conduct additional NEPA analysis.

Comments

Federal, state, and local government agencies, tribal governments, and other interested parties are requested to submit their written comments on the EA in one of the following ways:

1. Electronically: http://www.regulations.gov. In the entry entitled “Enter Keyword or ID,” enter BOEM-2012-0011, then click “search.” Follow the instructions to submit public comments and view supporting and related materials available for this document.

2. In written form, delivered by hand or by mail, enclosed in an envelope labeled “Comments on OCS Renewable Energy Program Leasing for Marine Hydrokinetic Technology Testing Offshore Florida EA” to: Program Manager, Office of Renewable Energy Programs, Bureau of Ocean Energy Management, 381 Elden Street, HM 1328, Herndon, Virginia 20170-4817.

Comments must be received or postmarked no later than May 25, 2012. All written comments received or postmarked during the comment period will be made available to the public.

Dated: April 20, 2012.
Walter D. Cruickshank,
Deputy Director, Bureau of Ocean Energy Management.

[FR Doc. 2012-9983 Filed 4-24-12; 8:45 am]

BILLING CODE 4310-MR-P